FEDERAL RESERVE SYSTEM

Change in Bank Control Notices, Acquisition of Shares of Bank or Bank Holding Companies; Correction

This notice corrects a notice (FR Doc. E9-9311 published on page 18576 of the issue for Thursday, April 23, 2009.

Under the Federal Reserve Bank of San Francisco heading, the entry for Don Rhee, Los Angeles, California, is revised to read as follows:

A. Federal Reserve Bank of San Francisco (Kenneth Binning, Vice President, Applications and Enforcement) 101 Market Street, San Francisco, California 94105-1579:

1. Don Rhee, Bok Kyung Rhee, and the Rhee Family Trust, all of Los Angeles, California; to acquire additional voting shares of Saehan Bancorp, and thereby indirectly acquire additional voting shares of Saehan Bank, both of Los Angeles, California.

Comments on this application must be received by May 8, 2009.

Board of Governors of the Federal Reserve System, April 23, 2009.
Robert deV. Frierson,
Deputy Secretary of the Board.

[FR Doc. E9-9627 Filed 4-27-09; 8:45 am]

BILLING CODE 6210-01-S